DEPARTMENT OF ENERGY

Federal Energy Regulatory Commission

[Docket Nos. RP00-462-002 and RP01-37-004]

Equitrans, L.P.; Notice of Compliance

August 1, 2002.

Take notice that on July 22, 2002, Equitrans, L.P. (Equitrans) tendered for filing as part of its FERC Gas Tariff, Original Volume No. 1, the following revised tariff sheets to become effective on the date designated by the Commission upon acceptance of the tariff sheets:

First Revised Sheet No. 201

First Revised Sheet No. 217

First Revised Sheet No. 227

Second Revised Sheet No. 245

First Revised Sheet No. 246

First Revised Sheet No. 249

Second Revised Sheet No. 253

Second Revised Sheet No. 254

Second Revised Sheet No. 267

First Revised Sheet No. 268

First Revised Sheet No. 269

Second Revised Sheet No. 270

First Revised Sheet No. 271

Second Revised Sheet No. 276

Original Sheet No. 276A

Original Sheet No. 276B

Original Sheet No. 276C

Original Sheet No. 276D

Second Revised Sheet No. 286

Second Revised Sheet No. 306

Equitrans states that the purpose of this tariff filing is to comply with the Commission's Order issued May 21, 2002, on the compliance by Equitrans with Commission Order Nos. 637, 58-G and 587-L.

Any person desiring to protest said filing should file a protest with the Federal Energy Regulatory Commission, 888 First Street, NE., Washington, DC 20426, in accordance with Section 385.211 of the Commission's Rules and Regulations. All such protests must be filed on or before August 8, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-19932 Filed 8-6-02; 8:45 am]

BILLING CODE 6717-01-P